ENVIRONMENTAL PROTECTION AGENCY

[FRL-7210-8]

Office of Environmental Information Draft Data Standard for Reporting Water Quality Results for Chemical and Microbiological Analytes and Draft Data Standard for Exchange of Tribal Identifier Information

AGENCY: Environmental Protection Agency (EPA).

ACTION: Notice of information availability and request for comments.

SUMMARY: Notice of availability is hereby given for a 45-day public comment period on two draft data standards: Draft Data Standard for Reporting Water Quality Results for Chemical and Microbiological Analytes and Draft Data Standard for Exchange of Tribal Identifier Information. These draft standards each consist of a list of data elements, definitions for these elements, notes,and explanatory preamble language. The draft standards were developed by the partnership efforts of States, Tribes, and U.S. Environmental Protection Agency participating in the Environmental Data Standards Council (EDSC). The EDSC convened Action Teams consisting of representatives from EPA, States and Tribes to develop these core sets of data elements to facilitate the sharing of information regarding reporting water quality results for chemical and microbiological analytes and the exchange of tribal identifiers information. The EPA and the EDSC invite comment on these standards from States, EPA, Tribes, database managers in the public and private sectors, and the general public with interest in development and use of data for reporting water quality results for chemical and microbiological analytes or the exchange of Tribal identifiers information.

DATES: Comments must be submitted on or before June 28, 2002.

ADDRESSES: The record for these standards has been established under docket number W-02-02, and includes supporting documentation as well as printed, paper versions of electronic comments. The record is available for inspection from 9 to 4 p.m., Monday through Friday, excluding legal holidays at the Water Docket, EB 57, USEPA Headquarters, 401 M St SW., Washington, DC 20460. For access to docket materials, please call (202) 260-3027 to schedule an appointment.

Electronic Access: You may view and download the draft data standards and related explanatory material at the EDSC website at: http://www.epa.gov/edsc/ in the area of the site marked “Data Standards.” The draft data standards can also be viewed and downloaded at the EPA Environmental Data Registry (EDR) at http://www.epa.gov/edr/ in the area of the site marked “Data Standards”. Or for those with password access, at the WISER portion of the State/EPA website at: http://www.ecos.org/wiser.

Please send an original and 3 copies of your comments and enclosures (including references) to the W-02-02. Comment Clerk, Water Docket (MC4101), USEPA, 1200 Pennsylvania Ave., NW., Washington, DC 20460. Comments must be received or post-marked by midnight June 28, 2002. Hand deliveries should be delivered to: EPA's Water Docket at 401 M. St., SW., Room EB57, Washington, DC 20460.

Commenters who want EPA to acknowledge receipt of their comments should enclose a self-addressed, stamped envelope. No facsimiles (faxes) will be accepted. Comments may also be submitted electronically to ow-docket@epa.gov. Electronic comments must be submitted as an ASCII, WP5.1, WP6.1 or WP8 file avoiding the use of special characters and form of encryption. Electronic comments must be identified by the docket number W-02-02. Electronic comments on this notice may be filed online at many Federal Depository Libraries.

FOR FURTHER INFORMATION CONTACT: Linda Spencer, Office of Environmental Information, Office of Information Collection, MC-2822T, U.S. Environmental Protection Agency, 1200 Pennsylvania Avenue, NW., Washington DC 20460; Telephone (202) 566-1651.

SUPPLEMENTARY INFORMATION:

I. Environmental Data Standards Council (EDSC) Background

Data sharing has become an increasingly important aspect of sound environmental management. States, Tribes, and EPA together face the critical challenge of sharing information among themselves and with their respective stakeholders and public. Fundamental to the seamless exchange of data are data standards. Data standards help improve the ability of partners (internal and external) to exchange data efficiently and accurately, and also assist secondary users of data to understand, interpret, and use data appropriately. Recognition of the need for EPA, States and Tribes to develop and agree upon data standards for environmental information sharing has lead to the creation of the EDSC. Data standards are documented agreements on formats and definitions of data elements. Standards are developed only when there is an environmental management business reason.

The EDSC's mission is to promote the efficient sharing of environmental information between EPA, States, Tribes, and other parties through the development of data standards. The EDSC identified reporting water quality results of chemical and microbiological analytes and exchange of tribal identifiers information as information areas for which having standards will create value to all interested parties. An Action Team deliberation process bringing together State, EPA, and Tribal parties began in August 2001 for the Draft Data Standard for Reporting Water Quality Results for Chemical and Microbiological Analytes and June 2000 for the Draft Data Standard for Exchange of Tribal Identifiers Information. Both draft standards were delivered to the EDSC for consideration in March 2002 and approved for initiation of this 45-day public comment period.

After the comment period announced in this Notice, the EDSC and its Action Teams will review comments received and make appropriate modifications. The EDSC will then consider approval of these data standards as appropriate. EDSC approval does not bind an individual agency to using a standard. It will be up to the individual or programs to determine if, when, and how it might use a standard developed under the auspices of the EDSC. It will be the intent of EPA to adopt and implement the consistent use of EDSC-approved standards in its information systems and programs.

II. Draft Data Standard for Reporting Water Quality Results for Chemical and Microbiological Analytes

Background

The EDSC is proposing to adopt the core set of data elements prepared by the National Water Quality Monitoring Council and adopted in May 2001 by the Advisory Committee on Water Information (ACWI), a Federal advisory committee to the Cooperative Water Program of the Department of Interior's U.S. Geological Survey. The data elements were adopted to facilitate the sharing of chemical and microbiological water quality data and promote efficiency in the monitoring of water resource quality programs. Water quality monitoring is an increasingly important element of water quality management activities. It provides information for an accurate understanding of the conditions of waters and the trends in observed water quality. Water quality must be understood in order that valid and effective restoration and protection programs can be designed for water bodies that vary significantly in their vulnerability and pollution stress. Because of the cost of its collection, water quality data must be viewed as a resource worthy of careful management both to preserve it for future analyses by the agency that collects it and to share it among local, State, and Federal agencies; and the private sector involved in resource management activities.

The Advisory Committee on Water Information's “core set” of data elements were intended to allow sharing and interpretation of sample test results among future secondary data users, regardless of data source, database management system, or the data's original intended use. The list ACWI adopted was not intended to suggest that additional data elements would not need to be retained in a data originator's database, or in other databases where it might be considered essential to the use of these data. The proposed standard is intended to adapt the ACWI data elements and serve as the initial basis for data exchange with EPA's Storage and Retrieval database (STORET) and, with approval of the EDSC, EPA has added data formats and field lengths for this purpose.

Both the EDSC and the ACWI are considering elements to record data of higher levels of biological and habitat data. This data reflects a growing appreciation that water quality in streams, lakes, and estuaries can be described by the life they support. When the list of data elements is complete, the EDSC intends to consider adding these elements to the groups subject to today's notice.

The proposed data standards emphasize metadata that describe common terminology and definitions for documenting key water quality data measurements from water quality monitoring. The EDSC believes that by adopting this core set of data elements, agencies collecting water quality data will be spared the task of creating their own systems for organizing metadata and associated metadata element definitions. When implemented, a standard set of data elements will enable data users to reconcile diverse metadata systems as they draw on multiple data sets to carry out their studies or analyses. The EDSC believes that the use of standard data elements holds the prospect of reducing costly duplicate monitoring efforts. These data elements are proposed as guidelines to define a measure of good practice within the water quality monitoring community. They will encourage greater data consistency, allow the quality of data to be determined by future users, and simplify the process for entering these metadata elements. It is not required that all the proposed data elements be used. Metadata selected must fit the data they describe. Ground water sampling data, for instance, is described by several metadata elements that are unrelated to surface water sampling data. Therefore, the EDSC is not requiring inclusion of all proposed elements in order for data to be entered in a federally maintained database. The EDSC's advocacy of these data elements is not intended to discourage the use of existing water quality data solely because it does not meet these guidelines.

The core set of data elements for reporting water quality results of chemical and microbiological analytes addresses wells, surface water stations, and precipitation measurements. This list is intended to standardize the preservation of data and to facilitate its sharing by standardizing definitions and by defining the list of data, metadata and their descriptive definitions. A data element is the name of a set of information with the same attribute. A data element may be a data field in a database such as a laboratory name, analyte, or the latitude of the sampling station. Examples of metadata elements include such things as sampling/laboratory procedures and quality controls.

The list of data elements is not specific to any particular database, but is intended to be used voluntarily by agencies, organizations and individuals to guide their reporting, storage, and sharing of water quality data. This list is intended primarily to guide the collection of ambient water quality data, but many of the allowable sample location and sample type descriptions are versatile enough to be useful in collecting these data in other settings.

The list of data and metadata elements is divided into categories that describe who collected and analyzed the sample, what was analyzed, why the sample was undertaken, when the sample was collected and analyzed, where the sampling occurred, and how the analysis was done. The list is intended to describe the breadth of information needed to ensure the continuing utility of the information both within an organization and between organizations as information is stored and shared, but without being an exhaustive list of every possible data element that could or should be reported. The EDSC has included the core set of data elements on the essential data needed across programs, recognizing that if more extensive data from a particular monitoring program were collected, it could be made available as well.

III. Draft Data Standard for Exchange of Tribal Identifier Information

The EDSC chartered the Tribal Identifier Action Team to identify and define the major areas of tribal identification information and to develop a data standard that could be used for the exchange of tribal identification data among environmental agencies and other entities. The purpose of the standard is to provide a common vocabulary or lexicon and to encourage tribal entity identification uniformity across information systems, so that information about functionally similar activities and/or instruments can be shared. The Standard is an adoption of The Bureau of Indian Affairs criteria for tribal entity identification (federally recognized tribes). The “Draft Data Standard for Exchange of Tribal Identifier Information” is not intended to constrain what information an agency chooses to collect, nor does it constitute a reporting requirement. The Standard defines a uniform way to organize and exchange key information if agencies choose to exchange that information.

The “Draft Data Standard for Exchange of Tribal Identifier Information” consists of two data elements—tribal names and tribal codes. Permissible values for tribal names are based on federally recognized tribes from the Bureau of Indian Affairs (BIA) “Long Names List”. Permissible values for tribal codes are based on those used in BIA's Trust Asset and Accounting Management System (TAAMS), which are used to represent tribal names. Efforts to identify a single authoritative source for state recognized tribes were unsuccessful, and investigations regarding such tribes found that the recognition criteria that states use vary significantly. Therefore the Tribal Action Group chose not to include state recognized tribes as part of this standard at this time.

IV. Future Revisions

EDSC standards will be periodically reviewed and revised as recommended by the EDSC or the stewards of the respective data standards: (1) ACWI for the Draft Data Standard for Reporting Water Quality Results for Chemical and Microbiological Analytes and (2) BIA for Draft Data Standard for Exchange of Tribal Identifier Information. The most current standards will be posted at www.edsc.org and www.epa.gov/edr.

V. Review of Draft Standards To Date

These draft standards have received significant input through the representatives from EPA program, States, and Tribal organizations serving on the development Action Teams. In addition, the preliminary versions of the draft standards have been reviewed by State and EPA programs managers during the first quarter of 2002. EDSC members have also reviewed and recommended these draft standards for this public comment process.

Dated: April 24, 2002.
Mark Luttner,
Director, Office of Information Collection, Office of Environmental Information.

[FR Doc. 02-11827 Filed 5-13-02; 8:45 am]

BILLING CODE 6560-50-P